DEPARTMENT OF LABOR

Office of Disability Employment Policy

Advisory Committee on Increasing Competitive Integrated Employment for Individuals With Disabilities; Notice of Meeting

The Advisory Committee on Increasing Competitive Integrated Employment for Individuals with Disabilities (the Committee) was mandated by section 609 of the Rehabilitation Act of 1973, as amended by section 461 of the Workforce Innovation and Opportunity Act (WIOA). The Secretary of Labor established the Committee on September 15, 2014, in accordance with the provisions of the Federal Advisory Committee Act (FACA), as amended, 5 U.S.C. App. 2. The purpose of the Committee is to study and prepare findings, conclusions and recommendations for Congress and the Secretary of Labor on (1) ways to increase employment opportunities for individuals with intellectual or developmental disabilities or other individuals with significant disabilities in competitive, integrated employment; (2) the use of the certificate program carried out under section 14(c) of the Fair Labor Standards Act (FLSA) of 1938 (29 U.S.C. 214(c)); and (3) ways to improve oversight of the use of such certificates.

The Committee is required to meet no less than eight times. The committee submitted an Interim Report to the Secretary of Labor; the Senate Committee on Health, Education, Labor and Pensions; and the House Committee on Education and the Workforce on September 15, 2015. A Final Report must be submitted to the same entities no later than September 15, 2016. The Committee terminates one day after the submission of the Final Report.

The next meeting of the Committee will be open to the public and take place by webinar on Monday, August 29, 2016. The meeting will take from 1:00 p.m. to 2:00 p.m., Eastern Daylight Time.

On August 29th, the Committee will meet to confirm consensus on the Final Report. Members of the public wishing to participate in the webinar must register in advance of the meeting, by Friday, August 19, 2016, using the following link— http://bit.ly/ACICIEID10.

Organizations or members of the public wishing to submit a written statement may do so by submitting their statement on or before August 19, 2016, to www.acicieid.org/comments. Written statements, with nine copies, may also be submitted to Mr. David Berthiaume, Advisory Committee on Increasing Competitive Integrated Employment for Individuals With Disabilities, U.S. Department of Labor, Suite S-1303, 200 Constitution Avenue NW., Washington, DC 20210.

Please ensure that any written submission is in an accessible format or the submission will be returned. Further, it is requested that statements not be included in the body of an email. Statements deemed relevant by the Committee and received on or before August 19, 2016 will be included in the record of the meeting. Do not include any personally identifiable information (such as name, address, or other contact information) or confidential business information that you do not want publicly disclosed.

Jennifer Sheehy,
Deputy Assistant Secretary, Office of Disability Employment Policy.

[FR Doc. 2016-18615 Filed 8-3-16; 8:45 am]

BILLING CODE 4510-23-P